FEDERAL COMMUNICATIONS COMMISSION

47 CFR Part 73

[DA 04-3011; MB Docket No. 04-340, RM-11081; MB Docket No. 04-371, RM-11082]

Radio Broadcasting Services; Crystal Fall, MI, and Laona, WI

AGENCY: Federal Communications Commission.

ACTION: Proposed rule.

SUMMARY: This document sets forth two proposals to amend the FM Table of Allotments, Section 73.202(b) of the Commission's rules, 47 CFR 73.202(b). The Commission requests comment on a petition filed by Results Broadcasting of Iron Mountain, Inc. Petitioner proposes the allotment of Channel 280C2 at Crystal Falls, Michigan, as a third local FM allotment. Channel 280C2 can be allotted at Crystal Falls in compliance with the Commission's minimum distance separation requirements with a site restriction of 24.3 kilometers (15.1 miles) southwest of Crystal Falls. The proposed coordinates for Channel 280C2 at Crystal Falls are 45-57-22 North Latitude and 88-33-46 West Longitude. The proposed allotment is located within 320 kilometers (199 miles) of the United States-Canada border, so it will be necessary to obtain concurrence in the allotment from the Government of Canada. See SUPPLEMENTARY INFORMATION infra.

DATES: Comments must be filed on or before November 15, 2004, and reply comments on or before November 30, 2004.

ADDRESSES: Federal Communications Commission, Washington, DC 20554. In addition to filing comments with the FCC, interested parties should serve counsel for the petitioner as follows: David G. O'Neil, Rini Coran, PC, 1501 M Street, NW., Suite 1150, Washington, DC 20005.

FOR FURTHER INFORMATION CONTACT: Deborah A. Dupont, Media Bureau (202) 418-7072.

SUPPLEMENTARY INFORMATION: This is a synopsis of the Commission's Notice of Proposed Rule Making, MB Docket Nos. 04-370 and 04-371, adopted September 22, 2004, and released September 24, 2004. The full text of this Commission decision is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, (800) 378-3160, or via the company's Web site, http://www.bcpiweb.com.

The Commission further requests comment on a petition filed by Results Broadcasting of Iron Mountain, Inc. Petitioner proposes the allotment of Channel 272C3 at Laona, Wisconsin, as a first local allotment. Channel 272C3 can be allotted at Laona in compliance with the Commission's minimum distance separation requirements with a site restriction of 11.1 kilometers (6.9 miles) north of Laona. The proposed coordinates for Channel 272C3 at Laona are 45-39-30 North Latitude and 88-43-20 West Longitude. The proposed allotment is located within 320 kilometers (199 miles) of the United States-Canada border, so it will be necessary to obtain concurrence in the allotment from the Government of Canada.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Michigan, is amended by adding Channel 280C2 at Crystal Falls.

3. Section 73.202(b), the Table of FM Allotments under Wisconsin, is amended by adding Channel Laona, Channel 272C3.

Federal Communications Commission.
John A. Karousos,
Assistant Chief, Audio Division, Media Bureau.

[FR Doc. 04-22753 Filed 10-7-04; 8:45 am]

BILLING CODE 6712-01-P